DEPARTMENT OF ENERGY

Federal Energy Regulatory Commission

[Docket No. PF01-1-000]

Dominion Transmission, Inc.; Notice of Public Scoping Meetings and Site Visit for the Greenbrier Pipeline Project and Request for Comments on Environmental Issues

May 21, 2002.

The staff of the Federal Energy Regulatory Commission (FERC or Commission) is sending out this notice to announce the dates and locations of the Greenbrier Pipeline Project's public scoping meetings, and is continuing our¹ request to receive comments on environmental issues. We are in the process of preparing an environmental impact statement (EIS) for Dominion Transmission, Inc.'s (Dominion)² project in West Virginia, Virginia, and North Carolina.³ The planned facilities consist of about 278.3 miles of mainline and lateral pipelines, two compressor stations, up to four meter stations, and related facilities. This EIS will be used by the Commission in its decision-making process to determine whether or not the project is in the public convenience and necessity.

¹ “We”, “us” and “our” refer to the environmental staff of the Office of Energy Projects (OEP), part of the Commission staff.

² The Greenbrier Pipeline Company, L.L.C. (GPC) will actually file the application to construct the Greenbrier Pipeline Project. GPC will be an equity venture between Dominion Greenbrier, Inc. and Piedmont Greenbrier Pipeline Company, L.L.C. Dominion Greenbrier, Inc. is a wholly owned subsidiary of Dominion Resources, Inc. Piedmont Greenbrier Pipeline Company, L.L.C. is a wholly owned subsidiary of Piedmont Natural Gas Company, Inc. These companies will have 67 and 33 percent equity owner interest, respectively, in the project. This notice will refer to Dominion in lieu of GPC since it initiated Docket No. PF01-1-000. After the certificate application is filed, we will refer to the proponent of the projects as GPC.

³ Dominion's application for this project, now in Docket No. PF01-1-000, will be given a “CP” filing designation when it is formally filed with the Commission. This application should fall under section 7(c) of the Natural Gas Act and Part 157 of the Commission's regulations.

If you are a landowner receiving this notice, you may be contacted by a pipeline company representative for permission to survey across your land or to obtain an easement to construct, operate, and maintain the planned facilities on your property. The pipeline company would seek to negotiate a mutually acceptable agreement. However, if the project is filed and subsequently approved by the Commission, that approval conveys with it the right of eminent domain. Therefore, if easement negotiations fail to produce an agreement, the pipeline company could initiate condemnation proceedings in accordance with applicable state law.

A fact sheet prepared by the FERC staff entitled “An Interstate Natural Gas Facility on My Land? What Do I Need To Know?” addresses a number of typically asked questions, including the use of eminent domain and how to participate in the Commission's proceedings. The fact sheet is available for viewing on the FERC Internet Web site (http://www.ferc.gov).

This notice is being mailed to landowners who are within a surveyed 100-foot-wide corridor; landowners within a 400-foot-wide corridor that is under consideration but has not yet been surveyed; landowners along alternative alignments that are being considered by Dominion; landowners who have property crossed by access roads, pipe yards, or other off-right-of-way potentially affected property; Federal, state, and local government agencies; elected officials; environmental and public interest groups; Native American tribes that might attach religious and cultural significance to historic properties in the area of potential effect; and local libraries and newspapers. We encourage government representatives to notify their constituents of this planned action and encourage them to comment on their areas of concern.

With this notice, we are also asking other Federal and state agencies with jurisdiction and/or special expertise with respect to environmental issues in the project area to cooperate with us in the preparation of the EIS. These agencies may choose to participate once they have evaluated Dominion's proposal relative to their responsibilities. Agencies who would like to request cooperating status should follow the instructions for filing comments described later in this notice. See appendix 1.

Summary of the Project

Dominion states that its project would transport up to 600,000 dekatherms per day (Dth/day) of natural gas to serve a growing demand for gas in southern West Virginia, southwestern Virginia, and North Carolina. Dominion seeks authority to construct and operate the Greenbrier Pipeline Project as follows:

a. About 215.7 miles of 30-inch-diameter pipeline from its existing Cornwell Compressor Station in Kanawha County, West Virginia, to Rockingham County, North Carolina;

b. About 41.4 miles of 24-inch-diameter pipeline from Rockingham to Person Counties, North Carolina;

c. About 17.4 miles of 20-inch-diameter pipeline from Person to Granville Counties, North Carolina;

d. About 1.0 mile of 12-inch-diameter lateral in Person County, North Carolina (DG-2);

e. About 2.1 miles of 10-inch-diameter lateral in Granville County, North Carolina (DG-3);

f. About 0.7 mile of 30-inch-diameter lateral in Rockingham County, North Carolina (DG-4);

g. Two new compressor stations, one in Kanawha County, West Virginia, (the Elk River Compressor Station) and the other in Rockingham County, North Carolina (Eden Compressor Station), totaling about 41,000 horsepower;

h. Up to four meter stations in Henry County, Virginia, and Rockingham, Person, and Granville Counties, North Carolina; and

f. Associated mainline valves, piping, and other appurtenant pipeline facilities.

Items a., b., and c. would collectively form a new mainline pipeline (DG-1).

Nonjurisdictional Facilities

—Virginia Power Energy Marketing, Inc. and Mountain Creek Development, L.L.C. are planning to construct power plants in Person and Granville Counties, North Carolina.

A general location map of the project facilities is shown in appendix 2.4 5, If you are interested in obtaining a detailed map of a specific portion of the project, you may send in your request using the form in appendix 4. Dominion has indicated that most of the pipeline route is firming up. However, it is still looking at an alternative alignment in the vicinity of the Hawks Nest State Park in Fayette County, West Virginia, and at the Henry County Alternative that is generally east of Martinsville, Virginia. See appendix 2 for the general location of these alternatives. The Hawks Nest State Park reroute would seek to avoid impact on the view shed of the park. In general, the Henry County Alternative follows a power line corridor. Whereas, the “original” alignment examined on the east side of Martinsville follows a products pipeline corridor.

⁴ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS, refer to the last page of this notice. Copies of the appendices were sent to all those receiving this notice in the mail.

⁵ The Commission is in the process of replacing RIMS and CIPS with the Federal Energy Regulatory Records Information System (FERRIS). If RIMS or CIPS cannot be found at the identified Commission web sites, FERRIS can be used to access information.

Land Requirements

The planned construction and permanent right-of-way (ROW) widths for the pipelines are as follows:

Name P | Pipe diameter (inches) | Construction ROW (feet) | Permanent ROW (feet)
DG-1 | 30 | 100 | 75
DG-1 | 24 | 75 | 50
DG-1 | 20 | 75 | 50
DG-2 | 12 | 75 | 50
DG-3 | 10 | 75 | 50
DG-4⁶ | 30 | 100 | 75
⁶ The DG-1 and DG-4 ROWs would overlap.

Construction of the planned pipelines would require about 3,500 acres (including pipeline ROWs and additional temporary work spaces). Following construction, about 2,334 acres would be retained as new permanent ROW for the pipelines. The 1,166 acres of temporary work space would be restored and allowed to revert to its former use.

Construction of the Elk River Compressor Station would disturb about 20.1 acres within the existing Cornwell Compressor Station. Six acres would be permanently used. The Eden Compressor Station would be located within a 79.9-acre property. About 38.0 acres would be disturbed by construction, and 6.3 acres would be permanently used. Dominion would construct the Transco Meter Station at the end of DG-4 using 1.85 acres. The rest of the meter stations would be constructed by the customers.

The EIS Process

The National Environmental Policy Act (NEPA) requires the Commission to take into account the environmental impacts that could result from an action whenever it considers the issuance of a Certificate of Public Convenience and Necessity. NEPA also requires us to solicit and address concerns the public may have about proposals. We call this “scoping.” The main goal of the scoping process is to focus the EIS on the important environmental issues. With this notice, the Commission is continuing to seek public comments on the scope of the issues it will address in the EIS. All comments received are considered during the preparation of the EIS. State and local government representatives are encouraged to notify their constituents of this planned project and encourage them to comment on their areas of concern.

Currently Identified Environmental Issues

The public has already identified numerous issues that they want addressed in our review of the proposed facilities. These scoping letters can be examined at the Commission's Web site under Docket No. PF01-1-000. These comments fall under the following general headings:

• Geology and soils.

• Water resources, fisheries, and wetlands.

• Vegetation and wildlife.

• Endangered and threatened species.

• Land use, recreation, and visual resources.

• Socioeconomics.

• Air and noise quality.

• Pipeline safety.

• Alternatives.

We will also evaluate possible alternatives to the proposed project or portions of the project, and make recommendations on how to lessen or avoid impacts on the various resource areas. We have identified several issues that we think deserve attention based on a preliminary review of the planned facilities and the environmental information provided by Dominion. This preliminary list of issues may be changed based on our analysis.

• Federally listed endangered or threatened species may occur in the project area.

• Hawks Nest State Park is near the project.

• Blue Ridge Parkway is crossed.

• Jefferson National Forest is crossed.

• Appalachian Trail is crossed.

• Numerous streams and wetlands are crossed.

• Homes and schools are near the pipelines.

Our independent analysis of the issues will result in the publication of a draft EIS that will be mailed to Federal, state, and local government agencies; Native American tribes; elected officials; public interest groups; interested individuals; interested affected landowners; newspapers; libraries; and the Commission's official service list for this proceeding. A 45-day comment period will be allotted for review of the draft EIS. We will consider comments on the draft EIS and revise the document, as necessary, before issuing a final EIS. The final EIS will include our response to comments received on the draft EIS and will be used by the Commission in its decision-making process to determine whether or not to approve the project.

To ensure your comments are considered, please carefully follow the instructions in the “Public Participation” or “Public Scoping Meetings” sections of this notice.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE, Room 1A, Washington, DC 20426;

• Refer to Docket No. PF01-1-000;

• Label one copy of the comments for the attention of Gas Branch 2, PJ-11.2; and

• Mail your comments so that they will be received in Washington, DC on or before June 20, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Mailing List Retention Form included in appendix 4. If you do not return the form, you will be taken off the mailing list.

Public Scoping Meetings

In addition to or in lieu of sending written comments, we invite you to attend any or all of the public scoping meetings that we will conduct in the area of the Greenbrier Pipeline Project. All of these meetings will start at 7 p.m. The locations for these meetings are listed below.

Monday, June 10, 2002, Roxboro, North Carolina—Person County Office Building, 304 South Morgan Street, Roxboro, North Carolina 27573, (336) 597-1720

Tuesday, June 11, 2002, Bassett, Virginia— Bassett High School, 85 Riverside Drive, Bassett, Virginia 24055, (276) 629-1731

Wednesday, June 12, 2002,Riner, Virginia—Auburn High School, 4163 Riner Road, Riner, Virginia 24149, (540) 382-5160

Thursday, June 13, 2002, Mt. Hope, West Virginia—Mt. Hope Middle School, 510 Main Street, Mt. Hope, West Virginia 25880, (304) 877-6641

The public scoping meetings provide you another opportunity to offer your comments on the project. Interested groups and individuals are encouraged to attend the meetings and to present comments on the environmental issues they believe should be addressed in the draft EIS. A transcript of each meeting will be made so that your comments will be accurately recorded.

The Pre-Filing NEPA Process

At the present time, Dominion has not filed an application with the FERC for the Greenbrier Pipeline Project. However, FERC has initiated work on evaluating the project using the Pre-Filing NEPA Process. FERC has assigned a Pre-Filing Docket Number (PF01-1-000). When Dominion files a formal application, it will be assigned a “CP” docket number, and all information filed under Docket No. PF01-1-000 will be become part of the record for the “CP docket”. All comments received during the pre-filing period will be considered during the preparation of the EIS. An EIS will not be issued until Dominion has filed an acceptable application at the FERC.

Becoming an Intervenor

Once Dominion formally files a CP application at the FERC for the Greenbrier Pipeline Project, you may want to become an official party to the proceeding, known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 3).⁷ Only intervenors have the right to seek rehearing of the Commission's decision.

⁷ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered. Parties cannot intervene in this project until a “CP” application is filed at the FERC. The company will mail a notice of this filing to affected landowners shortly after it occurs.

Availability of Additional Information

Additional information about the proposed project is available from the Commission's Office of External Affairs (202) 208-1088 or on the FERC Web site (www.ferc.gov) using the “RIMS” link to information in this docket number. Click on the “RIMS” link, select “Docket #” from the RIMS Menu, and follow the instructions. Please note that you must enter PF01-1 as the docket number, and 000 as the subdocket number.

For assistance with access to RIMS, the RIMS help line can be reached at (202) 208-2222. Similarly, the “CIPS” link on the FERC Internet Web site provides access to the texts of formal documents issued by the Commission, such as orders, notices, and rule makings. From the FERC Internet Web site, click on the “CIPS” link, select “Docket #” from the CIPS Menu, and follow the instructions. For assistance with access to CIPS, the CIPS help line can be reached at (202) 208-2222.

Magalie R. Salas,
Secretary.

[FR Doc. 02-13235 Filed 5-24-02; 8:45 am]

BILLING CODE 6717-01-P